DEPARTMENT OF AGRICULTURE

Food and Nutrition Service

Agency Information Collection Activities: Proposed Collection; Comment Request—State Administrative Expense Funds Regulations

AGENCY: Food and Nutrition Service (FNS), USDA.

ACTION: Notice.

SUMMARY: In accordance with the Paperwork Reduction Act of 1995, this notice invites the general public and other public agencies to comment on this proposed information collection related to State administrative expense funds expended in the operation of the Child Nutrition Programs (7 CFR parts 210, 215, 220, 226 and 250) administered under the Child Nutrition Act of 1966. This collection is a revision of a currently approved collection.

DATES: Written comments must be received on or before April 5, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Jon Garcia, Acting Branch Chief, Program Analysis and Monitoring Branch, Food and Nutrition Service, U.S. Department of Agriculture, 3101 Park Center Drive, Room 640, Alexandria, VA 22302. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Room 640, Alexandria, Virginia 22302.

All responses to this notice will be summarized and included in the request for Office of Management and Budget approval. All comments will be a matter of public record.

FOR FURTHER INFORMATION CONTACT: Requests for additional information or copies of this information collection should be directed to Mr. Jon Garcia at (703) 305-2590.

SUPPLEMENTARY INFORMATION:

Title: 7 CFR Part 235, State Administrative Expense Funds Regulations.

Form Numbers: FNS-74, FNS-525, FNS-777.

OMB Number: 0584-0067.

Expiration Date: 04/30/2013.

Type of Request: Revision of a currently approved collection.

Abstract: Section 7 of the Child Nutrition Act of 1966 (Pub. L. 89-642), 42 U.S.C. 1776, authorizes the Department to provide Federal funds to State agencies (SAs) for administering the Child Nutrition Programs (7 CFR parts 210, 215, 220, 226 and 250). State Administrative Expense Funds (SAE), 7 CFR part 235, sets forth procedures and recordkeeping requirements for use by SAs in reporting and maintaining records of their needs and uses of SAE funds. The reporting and recordkeeping burden associated with this revision is summarized in the charts below. The number of SAs participating in the CN programs decreased from 88 to 87 resulting in a decrease of 2 reporting burden hours and a decrease of 104 recordkeeping burden hours. A program adjustment to increase a recordkeeping requirement resulted in an increase of 129 burden hours for a net increase of (+23) total burden hours associated with this revision.

Total Burden Including Reporting and Recordkeeping

Affected Public: State Agencies.

Estimated Number of Respondents: 87.

Estimated Number of Responses per Respondent: 148.

Estimated Total Annual Responses: 12,890.

Estimate Time per Response: 1.05.

Estimated Total Annual Burden: 13,548.

Current OMB Inventory: 13,526.

Difference Burden Revisions Requested: +22.

Refer to the table below for estimated total annual burden for each type of respondent.

Affected public | Est. Number of respondents | Number of responses per respondent | Total annual responses | Est. total hours per response | Est. total burden
Reporting
State Agencies | 87 | 6.8621 | 597 | 1.335 | 797
Total Estimated Reporting Burden | 87 |  | 597 |  | 797
Recordkeeping
State Agencies | 87 | 141.29885 | 12,293 | 1.03725 | 12,751
Total Estimated Recordkeeping Burden | 87 |  | 12,293 |  | 12,751
Total of Reporting and Recordkeeping
Reporting | 87 | 6.8621 | 597 | 1.335 | 797
Recordkeeping | 87 | 141.29885 | 12,293 | 1.03725 | 12,751
Total | 87 | 148.16 | 12,890 | 1.05 | 13,548

Dated: January 25, 2013.
Audrey Rowe,
Administrator, Food and Nutrition Service.

Attachments

BILLING CODE 3410-30-P

[FR Doc. 2013-02254 Filed 2-1-13; 8:45 am]

BILLING CODE 3410-30-C